DEPARTMENT OF COMMERCE

National Oceanic and Atmospheric Administration

RIN: 0648-XT36

New England Fishery Management Council; Public Hearings

AGENCY: National Marine Fisheries Service (NMFS), National Oceanic and Atmospheric Administration (NOAA), Commerce.

ACTION: Notice; public hearings.

SUMMARY: The New England Fishery Management Council (Council) will hold three public hearings to solicit comment on Draft Amendment 4 and a Draft Environmental Assessment to the Atlantic Herring Fishery Management Plan (FMP).

DATES: The hearings will be held between January 6, 2010 and January 11, 2010. For specific dates and times, see SUPPLEMENTARY INFORMATION.

ADDRESSES: The Draft Amendment 4 document can be downloaded from our website at www.nefmc.org or obtained by contacting the New England Fishery Management Council, 50 Water Street, Mill 2, Newburyport, MA 01950; telephone: (978) 465-0492.

Meeting addresses: The Council will take comments at the public hearings to be held in Gloucester, MA, Fairhaven, MA and Portland, ME. For specific locations, see SUPPLEMENTARY INFORMATION.

FOR FURTHER INFORMATION CONTACT: Paul J. Howard, Executive Director, New England Fishery Management Council; telephone: (978) 465-0492.

SUPPLEMENTARY INFORMATION: Written public comments must be received on or before 5 p.m. EST, on Wednesday, January 13, 2010.

Comments may be sent to Paul J. Howard, Executive Director, 50 Water Street, Mill #2, Newburyport, MA 01950 or emailed to: comments@nefmc.org attention/subject line: (Herring Draft Amendment 4 Comments).

The agendas for the following three hearings are as follows: NEMFC staff will brief the public on the draft herring amendment and the contents of the draft environmental assessment prior to opening the hearing for public comments and the schedules are as follows:

Public Hearing Meetings: Locations and Schedules.

1. Wednesday, January 6, 2010, from 5-7 p.m.; Massachusetts Department of Marine Fisheries Annisquam River Station, 30 Emerson Avenue, Gloucester, MA 01950; telephone: (978) 282-0308.

2. Thursday, January 7, 2010, from 5-7 p.m.; Hampton Inn, Fairhaven, One Hampton Way, Fairhaven, MA 02719; telephone: (508) 990-8500

3. Monday, January 11, 2010, from 5-7 p.m.; Holiday Inn by the Bay, 88 Spring Street, Portland, ME 04101; telephone: (207) 775-2311.

Special Accommodations

These hearings are physically accessible to people with disabilities. Requests for sign language interpretation or other auxiliary aids should be directed to Paul J. Howard (see ADDRESSES), at least 5 working days prior to the meeting date.

Authority: 16 U.S.C. 1801 et seq.

Dated: December 16, 2009.
William D. Chappell,
Acting Director, Office of Sustainable Fisheries, National Marine Fisheries Service.

[FR Doc. E9-30331 Filed 12-21-09; 8:45 am]

BILLING CODE 3510-22-S